DEPARTMENT OF TRANSPORTATION

Coast Guard

[USCG-2001-8680]

Coast Guard Advisory to Recreational Boaters on Carbon Monoxide Hazard Caused by Generator Exhaust

AGENCY: Coast Guard, DOT.

ACTION: Consumer advisory notice.

SUMMARY: The Coast Guard advises owners and operators of boats to turn off gasoline-powered generators with transom exhaust ports when the swim platform on the stern is in use. The Coast Guard further advises that swimmers should not enter the cavity of a boat designed with a generator emitting exhaust into the cavity between the swim platform and the transom of the vessel. The Coast Guard is concerned about the serious health risk from carbon monoxide poisoning and seeks to prevent loss of life and personal injury.

FOR FURTHER INFORMATION CONTACT: Philip Cappel, Chief, Recreational Boating Product Assurance Division, Commandant (G-OPB-3), 2100 Second Street SW., Washington, DC 20593, telephone (202) 267-0988, e-mail pcappel@comdt.uscg.mil. Documents mentioned in this notice as being available in the docket, are part of docket USCG-2001-8680 and are available for inspection or copying at the Docket Management Facility, U.S. Department of Transportation, room PL-401, 400 Seventh Street SW., Washington, DC, between 9 a.m. and 5 p.m., Monday through Friday, except Federal holidays. You may also find this docket on the Internet at http://dms.dot.gov.

SUPPLEMENTARY INFORMATION: The Coast Guard was made aware of the deadly combination of generator exhaust and swim platforms through a September 2000 National Institute for Occupational Safety and Health (NIOSH) study of houseboat carbon monoxide deaths on Lake Powell in Arizona. The study showed that the particular design of the stern swim platform on certain models of houseboats created a cavity between the hull of the vessel and the swim platform where the gasoline-powered generator exhaust port is located. When the generator is running the carbon monoxide buildup in this cavity, as well as the swim platform and rear deck space, is so high that it creates an imminent danger of death for anyone who enters the cavity even for a very short period of time. The common practice of keeping generators running to power air conditioning, entertainment centers, and electronic suites while moored or anchored has exacerbated the problem.

The Coast Guard has conducted a preliminary investigation into the problem and has issued a letter to all known houseboat manufacturers informing them of this hazard and soliciting their plans for reducing the danger.

The problem may not be confined to houseboats, however, since any boat with the generator exhaust located in the transom and a swim platform could present the same lethal hazard. The Coast Guard is expanding its investigation of this problem to include all types of boats.

Previous carbon monoxide warnings and educational materials have concentrated on the hazards created by the exhaust of the main propulsion engines while underway. Although these dangers still exist, the Coast Guard will develop new educational materials to emphasize the additional hazards of using a gasoline-powered generator, especially while not underway.

The Coast Guard warns all boaters that this is an extremely dangerous matter that could result in serious injury or death and advises all boat owners to heed this warning.

Dated: January 12, 2001.
John W. Whitehouse,
Captain, U.S. Coast Guard, Acting Assistant Commandant for Operations.

[FR Doc. 01-1666 Filed 1-19-01; 8:45 am]

BILLING CODE 4910-15-U